DEPARTMENT OF TRANSPORTATION

Federal Aviation Administration

14 CFR Part 39

[Docket No. FAA-2021-0721; Project Identifier MCAI-2020-00616-R; Amendment 39-21713; AD 2021-18-12]

RIN 2120-AA64

Airworthiness Directives; PZL Swidnik S.A. Helicopters

AGENCY: Federal Aviation Administration (FAA), DOT.

ACTION: Final rule; request for comments.

SUMMARY: The FAA is adopting a new airworthiness directive (AD) for certain PZL Swidnik S.A. Model PZL W-3A helicopters. This AD was prompted by a report of fractured hoist carrying assembly bracket (bracket) bolts. This AD requires repetitively inspecting the sealing compound of certain part-numbered brackets, and depending on the results, removing the hoist or removing the hardware from service and installing new hardware. As an option to replacing the bolts, this AD allows deactivating the hoist, turning the circuit breaker panel switches to the OFF position, installing inoperative placards on the circuit breaker panel switches, and before each flight, inspecting the sealing compound. This AD also establishes a life limit for the bracket bolts, and prohibits installing an affected hoist or an affected bracket and hoist unless the actions required by this AD have been accomplished. The FAA is issuing this AD to address the unsafe condition on these products.

DATES: This AD becomes effective October 12, 2021.

The Director of the Federal Register approved the incorporation by reference of a certain document listed in this AD as of October 12, 2021.

The FAA must receive comments on this AD by November 12, 2021.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building, Ground Floor, Room W12-140, 1200 New Jersey Avenue SE, Washington, DC 20590.

• Hand Delivery: Deliver to Mail address above between 9 a.m. and 5 p.m., Monday through Friday, except Federal holidays.

For service information identified in this final rule, contact WSK “PZL-Świdnik” S.A., Al. Lotników Polskich 1, 21-045 Świdnik, Poland; telephone (+48) 81722 5716; fax (+48) 81722 5625; email: PL-CustomerSupport.AW@leonardocompany.com; or at https://www.pzlswidnik.pl/en/home. You may view this service information at the FAA, Office of the Regional Counsel, Southwest Region, 10101 Hillwood Pkwy., Room 6N-321, Fort Worth, TX 76177. For information on the availability of this material at the FAA, call (817) 222-5110. It is also available at https://www.regulations.gov by searching for and locating Docket No. FAA-2021-0721.

Examining the AD Docket

You may examine the AD docket at https://www.regulations.gov by searching for and locating Docket No. FAA-2021-0721; or in person at Docket Operations between 9 a.m. and 5 p.m., Monday through Friday, except Federal holidays. The AD docket contains this final rule, the European Union Aviation Safety Agency (EASA) AD, any comments received, and other information. The street address for Docket Operations is listed above.

FOR FURTHER INFORMATION CONTACT: Fred Guerin, Aerospace Engineer, General Aviation & Rotorcraft Section, International Validation Branch, Compliance & Airworthiness Division, FAA, 2200 S 216th St., Des Moines, WA 98198; telephone (202) 267-7457; email fred.guerin@faa.gov.

SUPPLEMENTARY INFORMATION:

Background

EASA, which is the Technical Agent for the Member States of the European Union, has issued EASA Emergency AD 2019-0191-E, dated July 31, 2019 (EASA Emergency AD 2019-0191-E), to correct an unsafe condition for Wytwórnia Sprzętu Komunikacyjnego (WSK) “PZL-Świdnik” Spółka Akcyjna (S.A.) Model PZL W-3A helicopters. EASA advises of a report of fractured bracket bolts. This condition, if not addressed, could result in detachment of the bracket resulting in movement of the hoist carrying assembly around the axis of the remaining two lower brackets, and subsequent damage to the helicopter and loss of hoisted load or person(s).

Accordingly, EASA Emergency AD 2019-0191-E requires repetitive inspections of the sealing compound around the affected brackets and, depending on the findings, accomplishing applicable corrective actions. EASA Emergency AD 2019-0191-E also requires repetitive replacement of the affected bolts. EASA considers its AD an interim action and states that further AD action may follow.

FAA's Determination

These helicopters have been approved by EASA and are approved for operation in the United States. Pursuant to the FAA's bilateral agreement with the European Union, EASA has notified the FAA about the unsafe condition described in its AD. The FAA is issuing this AD after evaluating all known relevant information and determining that the unsafe condition described previously is likely to exist or develop on other helicopters of the same type design.

Related Service Information Under 1 CFR Part 51

The FAA reviewed WYTWÓRNIA SPRZĘTU KOMUNIKACYJNEGO “PZL-Świdnik” Spółka Akcyjna Mandatory Bulletin No. BO-37-19-296, dated July 30, 2019. This service information specifies procedures for repetitively inspecting the sealing compound along the edges of bracket part number (P/N) 39.30.205.03.01 and 39.30.213.00.00. If there is any cracked sealing compound, this service information specifies procedures for removing the hoist and prohibits installing and using the hoist until corrective action is available. If no cracks are found in the sealing compound, this service information specifies procedures for replacing the bolts with new bolts if the hoist is intended to be used and procedures for deactivating the hoist if the hoist is not intended to be used. This service information also specifies a life limit for the bracket bolts.

This service information is reasonably available because the interested parties have access to it through their normal course of business or by the means identified in the ADDRESSES section.

AD Requirements

For helicopters with a hoist type 76378 installed, this AD requires repetitively cleaning and inspecting the sealing compound around the bracket edges and near each nut for cracked sealing compound. If there is any cracked sealing compound, this AD requires removing the hoist from service. If there is not any cracked sealing compound, this AD requires removing the bolts from service and installing new bolts. As an option to replacing the bolts, this AD allows deactivating the hoist, turning the circuit breaker panel switches to the OFF position, installing inoperative placards on the circuit breaker panel switches, and before each flight, inspecting the sealing compound. This AD also establishes a life limit for the bolts. Lastly, this AD prohibits installing an affected hoist or an affected bracket and hoist unless the actions required by this AD have been accomplished.

Differences Between This AD and the EASA AD

EASA Emergency AD 2019-0191-E requires using extraction naphtha, whereas this proposed AD would allow using aliphatic naphtha or extraction naphtha. This proposed AD would require removing each previously-installed bracket bolt, nut, washer, and cotter pin from service, whereas EASA AD 2019-0191-E does not. This proposed AD would count a cycle anytime the cable is extended and then retracted during flight or on the ground, whereas EASA Emergency AD 2019-0191-E does not clarify the conditions used for cycle counting. EASA Emergency AD 2019-0191-E allows, in lieu of replacing bolts or removing the hoist, operation of a helicopter with the hoist installed, provided the hoist is deactivated and its use is prohibited and the sealing compound of the affected bracket is inspected before each flight. This AD allows that provision only if there is not any cracked sealing compound.

Interim Action

The FAA considers this AD to be an interim action. If final action is later identified, the FAA might consider further rulemaking.

Justification for Immediate Adoption and Determination of the Effective Date

Section 553(b)(3)(B) of the Administrative Procedure Act (APA)(5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

There are no helicopters with this type certificate on the U.S. Registry. Accordingly, notice and opportunity for prior public comment are unnecessary, pursuant to 5 U.S.C. 553(b)(3)(B). In addition, for the foregoing reason, the FAA finds that good cause exists pursuant to 5 U.S.C. 553(d) for making this amendment effective in less than 30 days.

Comments Invited

The FAA invites you to send any written data, views, or arguments about this final rule. Send your comments to an address listed under ADDRESSES. Include “Docket No. FAA-2021-0721; Project Identifier MCAI-2020-00616-R” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to https://www.regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Fred Guerin, Aerospace Engineer, General Aviation & Rotorcraft Section, International Validation Branch, Compliance & Airworthiness Division, FAA, 2200 S 216th St., Des Moines, WA 98198; telephone (202) 267-7457; email fred.guerin@faa.gov. Any commentary that the FAA receives which is not specifically designated as CBI will be placed in the public docket for this rulemaking.

Regulatory Flexibility Act

The requirements of the Regulatory Flexibility Act (RFA) do not apply when an agency finds good cause pursuant to 5 U.S.C. 553 to adopt a rule without prior notice and comment. Because the FAA has determined that it has good cause to adopt this rule without prior notice and comment, RFA analysis is not required.

Costs of Compliance

There are no costs of compliance with this AD because there are no helicopters with this type certificate on the U.S. Registry.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national Government and the States, or on the distribution of power and responsibilities among the various levels of government.

For the reasons discussed, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-18-12 PZL Swidnik S.A.: Amendment 39-21713; Docket No. FAA-2021-0721; Project Identifier MCAI-2020-00616-R.

(a) Effective Date

This airworthiness directive (AD) is effective October 12, 2021.

(b) Affected ADs

None.

(c) Applicability

This AD applies to PZL Swidnik S.A. Model PZL W-3A helicopters, certificated in any category, with hoist type 76378 or hoist carrying assembly bracket (bracket) part number (P/N) 39.30.205.03.01 or 39.30.213.00.00 installed.

(d) Subject

Joint Aircraft Service Component (JASC) Code: 2500, Cabin Equipment/Furnishings.

(e) Unsafe Condition

This AD was prompted by a report of fractured bracket bolts. The FAA is issuing this AD to prevent detachment of the bracket resulting in movement of the hoist carrying assembly around the axis of the remaining two lower brackets. The unsafe condition, if not addressed, could result in damage to the helicopter and loss of hoisted load or person(s).

(f) Compliance

Comply with this AD within the compliance times specified, unless already done.

(g) Required Actions

(1) For helicopters with a hoist type 76378 installed, before further flight after the effective date of this AD:

(i) Clean the area where bracket P/N 39.30.205.03.01 or 39.30.213.00.00 is installed to the fuselage structure using extraction or aliphatic naphtha. Using a flashlight and a magnifying glass with a minimum x5 magnification, inspect around the bracket edge and near each nut for cracked sealing compound. Refer to Figure 1 of WYTWÓRNIA SPRZĘTU KOMUNIKACYJNEGO “PZL-Świdnik” Spółka Akcyjna Mandatory Bulletin No. BO-37-19-296, dated July 30, 2019 (MB BO-37-19-296), for an example of cracked sealing compound.

(A) If there is any cracked sealing compound, before further flight, remove the hoist from service. Reinstallation of a hoist type 76378 (that has not been removed from service) is allowed, provided that, before installation, the helicopter is modified in accordance with a method approved by the Manager, General Aviation and Rotorcraft Section, International Validation Branch, FAA; or EASA; or PZL Swidnik S.A.'s EASA Design Organization Approval (DOA). If approved by the DOA, the approval must include the DOA-authorized signature. Following modification, all repetitive inspections, replacements, and applicable corrective actions must be done as specified in this AD.

(B) If there are no cracks in the sealing compound, before further flight, replace each bracket bolt one-by-one by following Chapter II, paragraphs A.4.b. through i., of MB BO-37-19-296, except where it states to use extraction naphtha, you may substitute aliphatic naphtha. Remove each previously-installed bracket bolt, nut, washer, and cotter pin from service.

(C) As an option to the actions required by paragraph (g)(1)(i)(B) of this AD, deactivate the hoist by following Chapter II, paragraph 3.2.2., of MB BO-37-19-296; and thereafter, before each flight, inspect the sealing compound by accomplishing the actions required by paragraph (g)(1)(i) of this AD.

(ii) If there are no cracks in the sealing compound, within 25 hours time-in-service (TIS) after the replacement required by paragraph (g)(1)(i)(B) of this AD, and thereafter at intervals not to exceed 25 hours TIS, accomplish the actions required by paragraph (g)(1)(i) of this AD.

(iii) Within 800 hoist cycles after the replacement required by paragraph (g)(1)(i)(B) of this AD, and thereafter at intervals not to exceed 800 hoist cycles, replace each bracket bolt by accomplishing the actions required by paragraph (g)(1)(i)(B) of this AD. For the purposes of this AD, a cycle is counted anytime the cable is extended and then retracted during flight or on the ground, for any cable length extended and retracted and with or without load.

(2) For helicopters with a bracket P/N 39.30.205.03.01 or 39.30.213.00.00 installed, but no hoist installed, as of the effective date of this AD, do not install a hoist type 76378 unless the actions required by paragraph (g)(1) of this AD have been accomplished.

(3) As of the effective date of this AD, do not install bracket P/N 39.30.205.03.01 or 39.30.213.00.00 and hoist type 76378 on any helicopter unless the actions required by paragraph (g)(1) of this AD have been accomplished.

(h) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (i)(1) of this AD. Information may be emailed to: 9-AVS-AIR-730-AMOC@faa.gov.

(2) Before using any approved AMOC, notify your appropriate principal inspector, or lacking a principal inspector, the manager of the local flight standards district office/certificate holding district office.

(i) Related Information

(1) For more information about this AD, contact Fred Guerin, Aerospace Engineer, General Aviation & Rotorcraft Section, International Validation Branch, Compliance & Airworthiness Division, FAA, 2200 S 216th St., Des Moines, WA 98198; telephone (202) 267-7457; email fred.guerin@faa.gov.

(2) The subject of this AD is addressed in European Union Aviation Safety Agency (EASA) Emergency AD 2019-0191-E, dated July 31, 2019. You may view the EASA AD at https://www.regulations.gov in Docket No. FAA-2021-0721.

(j) Material Incorporated by Reference

(1) The Director of the Federal Register approved the incorporation by reference of the service information listed in this paragraph under 5 U.S.C. 552(a) and 1 CFR part 51.

(2) You must use this service information as applicable to do the actions required by this AD, unless the AD specifies otherwise.

(i) WYTWÓRNIA SPRZĘTU KOMUNIKACYJNEGO “PZL-Świdnik” Spółka Akcyjna Mandatory Bulletin No. BO-37-19-296, dated July 30, 2019.

(ii) [Reserved]

(3) For service information identified in this AD, contact WSK “PZL-Świdnik” S.A., Al. Lotników Polskich 1, 21-045 Świdnik, Poland; telephone (+48) 81722 5716; fax (+48) 81722 5625; email: PL-CustomerSupport.AW@leonardocompany.com; or at https://www.pzlswidnik.pl/en/home.

(4) You may view this service information at the FAA, Office of the Regional Counsel, Southwest Region, 10101 Hillwood Pkwy., Room 6N-321, Fort Worth, TX 76177. For information on the availability of this material at the FAA, call (817) 222-5110.

(5) You may view this service information that is incorporated by reference at the National Archives and Records Administration (NARA). For information on the availability of this material at NARA, email: fr.inspection@nara.gov, or go to: https://www.archives.gov/federal-register/cfr/ibr-locations.html.

Issued on August 26, 2021.
Lance T. Gant,
Director, Compliance & Airworthiness Division, Aircraft Certification Service.

[FR Doc. 2021-20828 Filed 9-24-21; 8:45 am]

BILLING CODE 4910-13-P